DEPARTMENT OF TRANSPORTATION

Office of the Secretary

Notice of Applications for Certificates of Public Convenience and Necessity and Foreign Air Carrier Permits Filed Under Subpart Q During the Week Ending October 13, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7559.

Date Filed: October 12, 2000.

Due Date for Answers, Conforming Applications, or Motion to Modify Scope: October 26, 2000.

Description: Application of Gemini Air Cargo, Inc. pursuant to Order 2000-9-24, applies for a certificate of public convenience and necessity to operate scheduled foreign air transportation of property and mail between points in the United States, on the one hand, and Manaus, Brasilia, Rio de Janeiro, Sao Paulo, Recife, Porto Alegre, Belem, Belo Horizonte, and Salvador de Bahia, Brazil, on the other; and beyond Brazil to Argentina, Uruguay, Paraguay, and Chile. Gemini also requests designation as the fourth U.S. scheduled all-cargo carrier to Brazil and asks the Department to allocate to Gemini the fourteen all-cargo frequencies that are presently available.

Docket Number: OST-2000-7559.

Date Filed: October 12, 2000.

Due Date for Answers, Conforming Applications, or Motion to Modify Scope: October 26, 2000.

Description: Application of Atlas Air, Inc. (“Atlas”) pursuant to 49 U.S.C. 41102 and 14 CFR 302.201 et seq., applies for a certificate of public convenience and necessity authorizing Atlas to engage in scheduled foreign air transportation of property and mail between a point or points in the United States, on the one hand, and Manaus, Brasilia, Rio de Janeiro, Sao Paulo, Recife, Porto Alegre, Belem, Belo Horizonte and Salvador de Bahia, Brazil, on the other, via intermediate points and beyond Brazil to Argentina, Uruguay, Paraguay and Chile. Atlas requests authorization to integrate this authority with its other all-cargo certificate and exemption authority, and to commingle traffic and services conducted pursuant to such authority, to the extent consistent with applicable agreements between the United States and foreign countries. Additionally, Atlas requests U.S. designation under the 1989 Air Transport Services Agreement between the United States and Brazil, as amended, and an award of seven weekly U.S.-Brazil all-cargo wide-body frequencies.

Docket Number: OST-2000-7559.

Date Filed: October 12, 2000.

Due Date for Answers, Conforming Applications, or Motion to Modify Scope: October 26, 2000.

Description: Application of Evergreen International Airlines, Inc. (“Evergreen”) pursuant to Order 2000-9-24 and 14 CFR 302.201, et seq., applies for a certificate of public convenience and necessity to provide scheduled foreign air transportation of property and mail between a point or points in the United States, on the one hand, and Manaus, Brasilia, Rio de Janeiro, Sao Paulo, Recife, Porto Alegre, Belem, Belo Horizonte, and Salvador de Bahia, Brazil, on the other, via intermediate points and beyond Brazil to Argentina, Chile, Uruguay and Paraguay. Evergreen also requests (i) an initial allocation of five weekly frequencies to operate its new Brazil service and (ii) authority to integrate U.S.-Brazil authority with Evergreen's other all-cargo certificate and exemption authority and to commingle traffic on services conducted pursuant to such authority, consistent with applicable agreements between the U.S. and foreign countries.

Dorothy Y. Beard,
Federal Register Liaison.

[FR Doc. 00-28250 Filed 11-1-00; 8:45 am]

BILLING CODE 4910-62-P